DEPARTMENT OF THE TREASURY

President's Commission on the United States Postal Service

AGENCY: Department of the Treasury, Departmental Offices.

ACTION: Notice of meeting.

SUMMARY: Notice is given of a meeting of the President's Commission on the United States Postal Service.

DATES: The meeting will be held on Thursday, May 29, 2003, from approximately 8:30 a.m. to 12:30 p.m. e.s.t.

ADDRESSES: The meeting will be held in Room 216 of the Hart Senate Office Building, 2nd and C Streets, NE., Washington, DC 20510.

FOR FURTHER INFORMATION CONTACT: Roger Kodat, Designated Federal Official, 202-622-7073.

SUPPLEMENTARY INFORMATION: At the public meeting, the Commission will continue its examination of the issues outlined in Executive Order 13278. Witnesses will include Postmaster General John E. Potter and Comptroller General of the United States David M. Walker. Seating is limited.

Dated: May 12, 2003.
Roger Kodat,
Designated Federal Official.

[FR Doc. 03-12223 Filed 5-13-03; 11:17 am]

BILLING CODE 4811-16-P